DEPARTMENT OF ENERGY

Federal Energy Regulatory Commission

[Project No. 10615-056]

Tower Kleber Limited Partnership; Notice of Intent To File License Application, Filing of Pre-Application Document, and Approving Use of the Traditional Licensing Process

a. Type of Filing: Notice of Intent to File License Application and Request to Use the Traditional Licensing Process.

b. Project No.: 10615-056.

c. Date Filed: March 11, 2019.

d. Submitted by: Tower Kleber Limited Partnership.

e. Name of Project: Tower and Kleber Hydroelectric Project.

f. Location: On the Black River in the Forest and Waverly Townships of Cheboygan County, Michigan. The project does not occupy federal lands.

g. Filed Pursuant to: 18 CFR 5.3 of the Commission's regulations.

h. Potential Applicant Contact: Tiffany Heon, Environmental Officer/FERC Relicensing Project Manager, Tower Kleber Limited Partnership, 764 Lexington Cr., Thunder Bay, Ontario, Canada P7B 7B8; phone: (647) 220-4476; email: tiffanyheon@hotmail.com.

i. FERC Contact: Lee Emery at (202) 502-8379; or email at lee.emery@ferc.gov.

j. Tower Kleber Limited Partnership filed its request to use the Traditional Licensing Process on March 11, 2019. Tower Kleber Limited Partnership provided public notice of its request on February 28, 2019 and March 1, 2019. In a letter dated May 2, 2019, the Director of the Division of Hydropower Licensing approved Tower Kleber Limited Partnership's request to use the Traditional Licensing Process.

k. With this notice, we are initiating informal consultation with the U.S. Fish and Wildlife Service and/or NOAA Fisheries under section 7 of the Endangered Species Act and the joint agency regulations thereunder at 50 CFR, part 402. We are also initiating consultation with the Michigan State Historic Preservation Officer, as required by section 106, National Historical Preservation Act, and implementing regulations of the Advisory Council on Historic Preservation at 36 CFR 800.2.

l. With this notice, we are designating Tower Kleber Limited Partnership as the Commission's non-federal representative for carrying out informal consultation, pursuant to section 7 of the Endangered Species Act and section 106 of the National Historic Preservation Act.

m. Tower Kleber Limited Partnership filed a Pre-Application Document (PAD; including a proposed process plan and schedule) with the Commission, pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

o. The licensee states its unequivocal intent to submit an application for a new license for Project No. 10615. Pursuant to 18 CFR 16.8, 16.9, and 16.10 each application for a new license and any competing license applications must be filed with the Commission at least 24 months prior to the expiration of the existing license. All applications for license for this project must be filed by May 2, 2022.

p. Register online at http://www.ferc.gov/docs-filing/esubscription.asp to be notified via email of new filing and issuances related to this or other pending projects. For assistance, contact FERC Online Support.

Dated: May 2, 2019.
Kimberly D. Bose,
Secretary.

[FR Doc. 2019-09488 Filed 5-8-19; 8:45 am]

BILLING CODE 6717-01-P